GENERAL SERVICES ADMINISTRATION

[OMB Control No. 3090-00xx; Docket No. 2011-0001; Sequence 2]

Agency Information Collection Activities; Proposed Collection; Comment Request; General Services Administration Acquisition Regulation; Generic Clearance for the Collection of Qualitative Feedback on Agency Service Delivery (GSA)

AGENCY: General Services Administration. (GSA)

ACTION: Notice of a request for comments regarding a new information collection.

SUMMARY: As part of a Federal Governmentwide effort to streamline the process to seek feedback from the public on service delivery, the General Services Administration (GSA) will be submitting a Generic Information Collection Request (Generic ICR): “Generic Clearance for the Collection of Qualitative Feedback on Agency Service Delivery” to OMB for approval under the Paperwork Reduction Act (PRA).

DATES: Submit comments on or before June 13, 2011.

ADDRESSES: Submit comments identified by Information Collection 3090-00xx, Generic Clearance for the Collection of Qualitative Feedback on Agency Service Delivery, by any of the following methods:

• Regulations.gov: http://www.regulations.gov. Submit comments via the Federal eRulemaking portal by inputting “Information Collection 3090-00xx”, Generic Clearance for the Collection of Qualitative Feedback on Agency Service Delivery, under the heading “Enter Keyword or ID” and selecting “Search”. Select the link “Submit a Comment” that corresponds with “Information Collection 3090-00xx”, Generic Clearance for the Collection of Qualitative Feedback on Agency Service Delivery. Follow the instructions provided at the “Submit a Comment” screen. Please include your name, company name (if any), and “Information Collection 3090-00xx” on your attached document.

• Fax: 202-501-4067.

• Mail: General Services Administration, Regulatory Secretariat (MVCB), 1275 First Street, NE., Washington, DC 20417. Attn: Hada Flowers/IC 3090-00xx, Generic Clearance for the Collection of Qualitative Feedback on Agency Service Delivery.

Instructions: Please submit comments only and cite Information Collection 3090-00xx, Generic Clearance for the Collection of Qualitative Feedback on Agency Service Delivery, in all correspondence related to this collection. All comments received will be posted without change to http://www.regulations.gov, including any personal and/or business confidential information provided.

FOR FURTHER INFORMATION CONTACT: To request additional information, please contact General Services Administration, Regulatory Secretariat Branch (MVCB), 1275 First Street, NE., Washington, DC 20417; telephone (202) 501-4755.

SUPPLEMENTARY INFORMATION: Title: Generic Clearance for the Collection of Qualitative Feedback on Agency Service Delivery.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

The Agency received no comments in response to the 60-day notice published in the Federal Register at 75 FR 80542, December 22, 2010.

Below we provide GSA's projected average estimates for the next three years:

Current Actions: New collection of information.

Type of Review: New Collection.

Affected Public: Individuals and Households, Businesses and Organizations, State, Local or Tribal Government.

Average Expected Annual Number of Activities: 48.

Respondents: 510.

Annual Responses: 8350.

Frequency of Response: 1.

Average Minutes per Response: 3.82.

Burden Hours: 534.

An agency may not conduct or sponsor, and a person is not required to respond to, a collection of information unless it displays a currently valid Office of Management and Budget control number.

Dated: May 9, 2011.
Sonny Hashmi,
Deputy Chief Information Officer.

[FR Doc. 2011-11835 Filed 5-12-11; 8:45 am]

BILLING CODE 6820-34-P